DEPARTMENT OF JUSTICE

Notice of Proposed Consent Decree Under the Clean Air Act

Notice is hereby given that on February 14, 2011, a proposed Consent Decree in United States et al. v. Ampersand Chowchilla Biomass, LLC, Civil Action No. 1:11-cv-00242, was lodged with the United States District Court for the Eastern District of California.

The Consent Decree in this Clean Air Act enforcement action resolves allegations by the Environmental Protection Agency and the San Joaquin Valley Unified Air Pollution Control District (“District”), asserted in a complaint filed together with the Consent Decree, under Section 113(b) of the Clean Air Act, 42 U.S.C. 7413(b), for alleged environmental violations at defendant's biomass electric generating facility in Madera, California. The violations include, among others, a failure to: Comply with numerous conditions contained in Federally enforceable permits issued for the facility, including those related to emissions of pollutants; install and operate required pollution control technology; undertake periodic equipment testing; and to submit required reports. The proposed Consent Decree would require defendant to install additional emissions monitoring equipment at their facility, pay a total of $343,000 in civil penalties to the United States and the District, and comply with permit conditions or face stipulated penalties during approximately two years following court approval of the consent decree.

The Department of Justice will receive comments relating to the proposed Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to the matter as and United States et al. v. Ampersand Chowchilla Biomass LLC, DOJ Ref. No. 90-5-2-1-09874.

The proposed Consent Decree may be examined at the following Regional Office of the United States Environmental Protection Agency: Region 9, 75 Hawthorne Street, San Francisco, California 94105. The Consent Decree may also be examined at the Office of the United States Attorney, 501 I Street, Suite 10-100, Sacramento, California 95814.

During the public comment period, the proposed agreement may also be examined on the following Department of Justice Web site: http://www.usdoj.gov/enrd/Consent_Decrees.html. Copies of the proposed agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting from the Consent Decree Library a copy of the consent decree, please enclose a check payable to the U.S. Treasury in the amount of $12.00 (25 cents per page reproduction cost) payable to the U.S. Treasury.

Maureen Katz,
Assistant Chief, Environmental Enforcement Section, Environment and Natural Resources Division.

[FR Doc. 2011-3672 Filed 2-17-11; 8:45 am]

BILLING CODE 4410-15-P